DEPARTMENT OF COMMERCE

National Oceanic and Atmospheric Administration

50 CFR Part 679

[Docket No. 010112013-1013-06; I.D. 082301C]

Fisheries of the Exclusive Economic Zone Off Alaska; Chiniak Gully Research Area for Vessels Using Trawl Gear

AGENCY: National Marine Fisheries Service (NMFS), National Oceanic and Atmospheric Administration (NOAA), Commerce.

ACTION: Modification of a closure.

SUMMARY: NMFS is rescinding the trawl closure in the Chiniak Gully Research Area. This action is necessary to allow vessels using trawl gear to participate in directed fishing for groundfish in the Chiniak Gully Research Area after the completion of NMFS research on August 31, 2001.

DATES: Effective 1200 hrs, Alaska local time (A.l.t.), September 1, 2001 through December 31, 2001.

FOR FURTHER INFORMATION CONTACT: Mary Furuness, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 679.

The Chiniak Gully Research Area was closed to vessels using trawl gear from August 1 to a date no later than September 20, 2001, under the Steller Sea Lion Protection Measures and 2001 Harvest Specifications and Associated Management Measures for the Groundfish Fisheries Off Alaska (66 FR 37167, July 17, 2001).

This closure was in support of a research project to evaluate the effect of commercial fishing activity on the prey availability of pollock to Steller sea lions.

NMFS has determined that as of August 31, 2001, the pollock research will be completed in the Chiniak Gully Research Area. Therefore, NMFS is rescinding the previous closure and is opening directed fishing for groundfish by vessels using trawl gear in the Chiniak Gully Research Area pursuant to 50 CFR 679.22(b)(6)(ii)(B).

Classification

All other closures remain in full force and effect. This action responds to the best available information recently obtained from the fishery. The Assistant Administrator for Fisheries, NOAA, finds that the need to immediately implement this action in order to allow the participation of vessels using trawl gear in the Chiniak Gully Research Area constitutes good cause to waive the requirement to provide prior notice and opportunity for public comment pursuant to the authority set forth at 5 U.S.C. 553(b)(3)(B) and 50 CFR 679.20(b)(3)(iii)(A), as such procedures would be unnecessary and contrary to the public interest. Similarly, the need to implement these measures in a timely fashion in order to allow the participation of vessels using trawl gear in the Chiniak Gully Research Area constitutes good cause to find that the effective date of this action cannot be delayed for 30 days. Accordingly, under 5 U.S.C. 553(d), a delay in the effective date is hereby waived.

This action is required by § 679.20 and is exempt from review under Executive Order 12866.

Authority: 16 U.S.C. 1801 et seq.

Dated: August 24, 2001.
Dean Swanson,
Acting Director, Office of Sustainable Fisheries, National marine Fisheries Service.

[FR Doc. 01-21949 Filed 8-29-01; 8:45 am]

BILLING CODE 3510-22-S